DEPARTMENT OF VETERANS AFFAIRS

Research Advisory Committee On Gulf War Illnesses; Notice of Meeting

The Department of Veterans Affairs (VA) gives notice under Public Law 92-463 (Federal Advisory Committee Act) that the Research Advisory Committee on Gulf War Veterans' Illnesses will meet on October 27-28, 2003 at the Department of Veterans Affairs, 810 Vermont Avenue, NW., Room 630, Washington, DC. The meeting on October 27 will convene at 8:30 a.m. and adjourn at 5 p.m. The meeting on October 28 will convene at 8:30 a.m. and adjourn at 3:30 p.m. Both meetings will be open to the public.

The purpose of the Committee is to provide advice and make recommendations to the Secretary of Veterans Affairs on proposed research studies, research plans and research strategies relating to the health consequences of military service in the Southwest Asia theater of operations during the Persian Gulf War.

On October 27, the Committee will hear research presentations on birth defects and family health and identifying possible molecular targets of neurotoxic exposures in Gulf War illnesses. The Committee will also receive an update on VA-sponsored Gulf War research activities. On October 28, the committee will receive an update on published research. The committee will hear presentations on the following topics: possible role of vaccines in Gulf War veterans' illnesses, monitoring health outcomes in Gulf War veterans at VA and overview of federal research funding for Gulf War illnesses and chemical defense. Time will be available for public comment on both days.

Members of the public may submit written statements for the Committee's review to Ms. Laura O'Shea, Designated Federal Officer, Department of Veterans Affairs (008A1), 810 Vermont Avenue, NW., Washington, DC 20420. Any member of the public seeking additional information should contact Ms. Laura O'Shea at (202) 273-5031.

Dated: October 1, 2003.
By Direction of the Secretary.
E. Philip Riggin,
Committee Management Officer.

[FR Doc. 03-25595 Filed 10-8-03; 8:45 am]

BILLING CODE 8320-01-M